DEPARTMENT OF AGRICULTURE

Rural Utilities Service

[Docket No. RUS-23-ELECTRIC-0003]

Amended Notice of Funding Opportunity for the Powering Affordable Clean Energy (PACE) Program

AGENCY: Rural Utilities Service, USDA.

ACTION: Notice; amendment.

SUMMARY: The Rural Utilities Service (RUS or the Agency), a Rural Development (RD) Agency of the United States Department of Agriculture (USDA), announced its intent to solicit Letters of Interest (LOI) for Applications under the Powering Affordable Clean Energy (PACE) Program in a Notice of Funding Opportunity (NOFO) on May 16, 2023, in the Federal Register. In addition, the NOFO announced the Application process and deadlines, and the criteria that RUS will use to evaluate applications under the Powering Affordable Clean Energy (PACE) Program. These loan funds will be made to qualified PACE Applicants to finance power generation Projects for Renewable Energy Resource (RER) systems or Energy Storage Systems (ESS) that support RER Projects. The PACE Program has $1,000,000,000 available in appropriated funds under the Inflation Reduction Act of 2022 (IRA). This notice is making amendments to ensure applicants know they are required to establish a Verified eAuthentication ID, to inform applicants that they are eligible for the PACE Program even if they are subject to a “cooling off period” under the Rural Electrification Act, and to notify applicants that the Agency will provide general assistance to applicants through the RUS' General Field Representatives (GFRs) prior to LOI submissions.

DATES: Letters of Interest (LOIs) can be submitted beginning at 11:59 a.m. Eastern Time (ET) on June 30, 2023, until 11:59 a.m. ET September 29, 2023. An applicant that is invited by RUS to proceed with the loan Application will have 60 days, or a time agreeable to the Agency, to complete and submit a loan Application beginning from the date the Invitation to Proceed is emailed to the PACE Applicant. If the deadline to submit the completed Application falls on Saturday, Sunday, or a Federal holiday, the Application is due the next business day. RUS reserves the right, in its sole discretion, to extend the deadline upon the written request of the applicant if the applicant demonstrates to the satisfaction of the Administrator that exceptional circumstances exist to warrant the extension.

ADDRESSES:

Letters of Interest (LOI) Submissions. All LOIs must be submitted to RUS electronically through an on-line application window. The Agency will finalize the specific requirements of submitting the LOI through the on-line application window by notice in the Federal Register and the RUS website at https://www.rd.usda.gov/programs-services/electric-programs/powering-affordable-clean-energy-pace-program on or before June 30, 2023.

Application Submissions. LOI submitters chosen to proceed with the loan Application must submit a completed loan Application package in accordance with the instructions provided in the RUS' Invitation to Proceed.

Other information. Additional information and resources are available at https://www.rd.usda.gov/programs-services/electric-programs/powering-affordable-clean-energy-pace-program. Information on IRA Funding for RD is located at the following website: https://www.rd.usda.gov/inflation-reduction-act#fn.

FOR FURTHER INFORMATION CONTACT: Christopher A. McLean, Assistant Administrator, Electric Program, RUS, RD, USDA, 1400 Independence Avenue SW, STOP 1568, Washington, DC 20250-1560; Telephone: 202-690-4492; Email: SM.RD.RUS.IRA.Questions@usda.gov.

SUPPLEMENTARY INFORMATION:

Corrections and Amendments

This program was initially announced in the Federal Register on May 16, 2023, in FR Document 2023-10388. As of this publication, the following changes are being implemented.

1. On page 31239, in the second column, section D.7, is being amended to add two new paragraphs, (g) and (h), to read as follows:

(g) Prior to accessing the on-line application window to submit an LOI or an Application, PACE Applicants must obtain a Verified USDA eAuthentication (eAuth) account for each member of their staff requiring access to the online application window. If an Applicant or staff member does not have a Verified eAuth account, then they will need to create an account or upgrade an existing account. To do so, a person will need to follow the instructions on the USDA eAuth website to create a Verified eAuth account or upgrade an existing account from “unverified” to “verified.” The USDA eAuth website can be found at: https://www.eauth.usda.gov/eauth/b/usda/home.

(h) The 120-month or 180-month exclusions referenced in sec. 306B of the Rural Electrification Act and related regulations do not apply to financing under this program.

2. On page 31243, in the first column, section I is being amended to add a new paragraph 9. to read as follows:

9. Application of General Assistance. Prior to official submission of an LOI, Applicants may request general assistance from the Agency if such requests are made prior to August 17, 2023. The Agency may provide general assistance as it is able, and Applicants may request assistance in the form of general assistance and consultation with an RUS GFR. Please note that RUS GFRs shall not provide strategic submission or strategic LOI advice, and applicants are fully responsible for their submissions. Assistance may also be requested to Agency staff in the form of requests to speak at meetings, events, and conferences to explain program provisions and answer questions about this funding announcement. Such requests and responses will be posted to the PACE FAQ page. Information on contacting an RUS GFR can be found here: https://www.rd.usda.gov/contact-us/electric-gfr. For requests regarding speaking engagements, please email: SM.RD.RUS.IRA.Questions@usda.gov.

Andrew Berke,
Administrator, Rural Utilities Service, USDA Rural Development.

[FR Doc. 2023-12848 Filed 6-15-23; 8:45 am]

BILLING CODE 3410-15-P